ENVIRONMENTAL PROTECTION AGENCY

40 CFR Part 52

[EPA-R04-OAR-2013-0223; FRL-9837-2]

Approval and Promulgation of Implementation Plans: Atlanta, Georgia 1997 8-Hour Ozone Nonattainment Area; Reasonable Further Progress Plan

AGENCY: Environmental Protection Agency (EPA).

ACTION: Withdrawal of direct final rule.

SUMMARY: Due to the receipt of an adverse comment, EPA is withdrawing the May 29, 2013, direct final rule to approve Georgia's October 21, 2009, state implementation plan (SIP) submission to address the reasonable further progress (RFP) plan requirements for the Atlanta, Georgia 1997 8-hour ozone national ambient air quality standards (NAAQS) nonattainment area. EPA is considering this comment and will address the comment in a subsequent action. EPA will not institute a second comment period on this action.

DATES: The direct final rule published at 78 FR 32135 on May 29, 2013, is withdrawn as of July 24, 2013.

FOR FURTHER INFORMATION CONTACT: Sara Waterson, Air Planning Branch, U.S. Environmental Protection Agency Region 4, 61 Forsyth Street SW., Atlanta, Georgia 30303-8960. Phone number: (404) 562-9061; Email: waterson.sara@epa.gov.

SUPPLEMENTARY INFORMATION: On May 29, 2013 (78 FR 32135), EPA published a direct final rulemaking to approve Georgia's October 21, 2009, SIP submission to address the RFP plan requirements for the Atlanta, Georgia 1997 8-hour ozone NAAQS nonattainment area. In the direct final rule, EPA stated that if adverse comments were received by June 28, 2013, the rule would be withdrawn and not take effect. On June 28, 2013, EPA received a comment. EPA interprets this comment as adverse and, therefore, EPA is withdrawing a portion of the direct final rule. EPA will address the comment in a subsequent final action based upon the proposed rulemaking action, also published on May 29, 2013 (78 FR 32222). EPA will not institute a second comment period on this action.

List of Subjects in 40 CFR Part 52

Environmental protection, Air pollution control, Incorporation by reference, Intergovernmental relations, Ozone, Reporting and recordkeeping requirements, and Volatile organic compounds.

Dated: July 12, 2013.
Beverly H. Banister,
Acting Regional Administrator, Region 4.

Accordingly, the direct final rule which published in the Federal Register on May 29, 2013, at 78 FR 32135 is withdrawn as of July 24, 2013.

[FR Doc. 2013-17689 Filed 7-23-13; 8:45 am]

BILLING CODE 6560-50-P